DEPARTMENT OF THE INTERIOR

Minerals Management Service

Notice on Outer Continental Shelf Oil and Gas Lease Sales

AGENCY: Minerals Management Service, Interior.

ACTION: List of restricted joint bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period November 1, 2000, through April 30, 2001. The List of Restricted Joint Bidders published March 30, 2000, in the Federal Register at 65 FR 16957 covered the period May 1, 2000, through October 31, 2000.

Group I. Exxon Mobil Corporation; and ExxonMobil Exploration Company

Group II. Shell Oil Co.; Shell Offshore Inc.; SWEPILP; Shell Frontier Oil & Gas Inc.; Shell Consolidated Energy Resources Inc.; Shell Land & Energy Company; Shell Onshore Ventures Inc.; Shell Deepwater Development Inc.; Shell Deepwater Production Inc.; and Shell Offshore Properties and Capital II, Inc.

Group III. BP Exploration & Oil Inc.; BP Exploration (Alaska) Inc.; Amoco Production Company; Vastar Offshore Inc.; and Vastar Resources Inc.

Group IV. Elf Exploration, Inc.; Elf Aquitaine Oil Programs, Inc.; TOTAL Exploration Production USA, Inc.; and PetroFina Delaware, Inc.

Dated: October 2, 2000.
Walt Rosenbusch,
Director, Minerals Management Service.

[FR Doc. 00-25794 Filed 10-5-00; 8:45 am]

BILLING CODE 4310-MR-M